Proclamation 9998 of March 23, 2020

National Agriculture Day, 2020

By the President of the United States of America

A Proclamation

Since our Nation's earliest days, farming communities have been a bedrock of our society. In a letter to George Washington, Thomas Jefferson famously stated that agriculture “is our wisest pursuit, because it will in the end contribute most to real wealth, good morals, and happiness.” As our Nation continues to face the unique challenges posed by the coronavirus pandemic, we pay tribute to the unbeatable strength of America's agricultural producers as they once again answer the call to feed our country and the world. On this National Agriculture Day, and now more than ever, we salute and honor the men and women who contribute daily to our national prosperity.

United States agricultural food and fiber production has increased significantly over the past century, while the amount of resources used to produce those goods has largely stayed the same. This incredible productivity is due to innovations that have propelled the American model of agriculture to the top of the world stage, allowing Americans to spend less of their paychecks on food. Americans feed their families with the safest, healthiest, and most affordable food in the world. Thanks to the efficiency of our farmers and ranchers, our rural communities are stronger and more resilient.

Since taking office, I have worked tirelessly to deliver on my promise to negotiate better trade deals for our country, directly benefitting agricultural communities. After decades of one-sided trade agreements that left the great men and women of our country behind, my Administration has secured fairer and more reciprocal deals that ensure American workers are put first. Our farmers, whose grit and hard work help feed, fuel, and clothe millions around the world, are key beneficiaries of these historic trade agreements. In 2019, I delivered the United States-Japan Trade Agreement, which is already providing our farmers, ranchers, and agribusinesses with new market access to 127 million Japanese consumers. In January, I ended the outdated and unbalanced North American Free Trade Agreement by signing into law the United States-Mexico-Canada Agreement (USMCA), creating incredible opportunities for American farmers and ranchers. The USMCA empowers American businesses in our vital agricultural sector with greater freedom to sell their goods throughout North America. Thanks to this better deal, American agriculture exports are expected to increase by $2.2 billion. I also signed a new, fully enforceable trade agreement with China, which will help start to rebalance our vital trade partnership. As part of this deal, China has pledged to increase imports of American goods and services over the next 2 years by at least $200 billion, including purchasing more than $80 billion in American agricultural goods.

Across our country, farming families and communities demonstrate the timeless American values of hard work, perseverance, and stewardship of the land. Just as they have for centuries, our farmers provide the foundation of a national economic supply chain that is critical to our national security and prosperity. Today and every day, we express our gratitude to these individuals and remember the central place of agriculture in our national identity and American way of life.

NOW, THEREFORE, I, DONALD J. TRUMP, President of the United States of America, by virtue of the authority vested in me by the Constitution and the laws of the United States, do hereby proclaim March 24, 2020, as National Agriculture Day. I encourage all Americans to observe this day by recognizing the preeminent role that agriculture plays in our daily lives, acknowledging agriculture's continuing importance to rural America and our country's economy, and expressing our deep appreciation of farmers, growers, ranchers, producers, national forest system stewards, private agricultural stewards, and those who work in the agriculture sector across the Nation.

IN WITNESS WHEREOF, I have hereunto set my hand this twenty-third day of March, in the year of our Lord two thousand twenty, and of the Independence of the United States of America the two hundred and forty-fourth.

[FR Doc. 2020-06477

Filed 3-25-20; 8:45 am]

Billing code 3295-F0-P